DEPARTMENT OF HEALTH AND HUMAN SERVICES

Food and Drug Administration

Request for Nominations for Voting Members on Public Advisory Committees; Veterinary Medicine Advisory Committee; Extension of Nomination Period

AGENCY: Food and Drug Administration, HHS.

ACTION: Notice; extension of nomination period.

SUMMARY: The Food and Drug Administration (FDA) is extending the nomination period for voting members to serve on the Veterinary Medicine Advisory Committee (VMAC) in one of the following specialty areas: Pharmacology, Minor Species/Minor Use Veterinary Medicine, and pathology. Nominations for the VMAC chairperson are also being solicited. This request for nominations was announced in the Federal Register of May 13, 2002 (67 FR 32055). FDA has been asked to extend the nominations period to allow additional time for the submission of nominations.

DATES: Nominations should be received by June 30, 2002.

ADDRESSES: All nominations for representatives should be sent to Aleta Sindelar (see FOR FURTHER INFORMATION CONTACT).

FOR FURTHER INFORMATION CONTACT: Aleta Sindelar, Center for Veterinary Medicine, Food and Drug Administration, 7519 Standish Pl., Rockville, MD 20855, 301-827-4515, e-mail: asindela@cvm.fda.gov.

Dated: June 6, 2002.
William K. Hubbard,
Senior Associate Commissioner for Policy, Planning, and Legislation.

[FR Doc. 02-15111 Filed 6-14-02; 8:45 am]

BILLING CODE 4160-01-S